DEPARTMENT OF HEALTH AND HUMAN SERVICES

Centers for Disease Control and Prevention

[60Day 13-13ZC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Case Studies to Explore Interventions to Support, Build, and Provide Legacy Awareness for Young Breast Cancer Survivors—New—National Center for Chronic Disease Prevention and Health Promotion (NCCDPHP), Centers for Disease Control and Prevention (CDC).

Background and Brief Description

Young breast cancer survivors (YBCS, defined as women diagnosed with breast cancer under 45 years old) may have a more difficult time coping with breast cancer treatment and aftercare when compared to older breast cancer survivors. For example, breast cancer can be more serious, treatment is often multimodal and more toxic, and side effects can be more severe for YBCS than for older women. As part of the Patient Protection and Affordable Care Act (H.R. 3590, 2010), Congress passed the Education and Awareness Requires Learning Young (EARLY) Act, Sec. 10413. The EARLY Act directed CDC to develop and implement national campaigns to educate young women (particularly those at increased risk) and health care providers about breast cancer risk and early diagnosis. As a result of the EARLY Act, CDC established the Funding Opportunity Announcement, DP11-1111, Developing Support and Educational Awareness for Young (< 45 years of age) Breast Cancer Survivors in the United States. Subsequently, CDC awarded a three-year cooperative agreement to seven organizations that demonstrated a capacity to (1) reach YBCS, health care providers, and caregivers/families, (2) implement interventions that seek to provide support services, and (3) develop educational communication and awareness resources to support YBCS.

Other establishments within the U.S., such as local and national not-for-profit organizations and academic institutions, implement similar YBCS-focused interventions without funding from CDC's DP11-1111 cooperative agreement. Although these entities are not funded through CDC, they plan, develop, and employ similar tools, strategies, and interventions to reach or benefit these targeted young cancer-survivor populations.

CDC proposes to conduct exploratory case studies of organizations that provide support services and/or educational resources to YBCS, health care providers, and/or caregivers/families. Each selected organization will serve as a unique case and the unit of analysis. Information will be collected from up to 12 organizations: Seven case studies will be conducted with organizations that receive funding through CDC's DP11-1111 cooperative agreement, and up to five case studies will be conducted with other organizations that are implementing similar YBCS-focused activities and interventions but do not receive funding under DP11-1111. Information will be collected during a single site visit to each selected organization to conduct in-person interviews with key programmatic staff and to record on-site observations of program planning and implementation activities.

Case studies are intended to serve as an exploration of implementation activities, as well as to provide the context for implementation. Specifically, case study findings will help CDC to identify areas in which CDC can build upon existing and emerging efforts to provide support services and educational resources to YBCS, highlight barriers and facilitating factors to implementing interventions targeting YBCS, determine the added value of providing the DP11-1111 cooperative agreement (e.g., funding, technical assistance) to various entities, identify lessons learned that can be applied to future implementation of YBCS interventions, and better understand the sustainability of YBCS interventions following/in the absence of CDC funding.

CDC will be able to gain a deeper understanding of (1) implementation of the DP11-1111 cooperative agreement, (2) implementation of YBCS interventions, including barriers and facilitators to implementation, and (3) similarities and differences among organizations serving YBCS. Case study findings will be compiled and summarized in site-specific and cross-site reports to CDC. Information collected will help to enhance existing efforts to provide educational resources and support services to YBCS and inform replication of promising YBCS interventions in other settings.

Case study selection is based on a purposeful selection of CDC-funded and non-CDC funded organizations that support YBCS populations through educational or service programs. Potential organizations for this project include local or national not-for-profit organizations and academic institutions. Information will be collected using on-site observations and in-depth interviews (IDI) with each organization's key informants, such as Principal Investigators, Program Managers, Program Staff, and Program Partners. IDIs will last 1-2 hours each. Case study findings will be compiled and summarized in site-specific and cross-site reports to CDC. Information will be collected approximately two years after initiation of CDC's cooperative agreement, DP11-1111. OMB approval is requested for 12 months.

There are no costs to respondents other than their time.

Estimated Annualized Burden Hours
Type of respondents | Form name | Number of respondents | Number of responses per respondent | Avg. burden per response | Total burden (in hrs)
Organizations that Receive CDC Funding | IDI Guide for Program Directors/Principal Investigators | 7 | 1 | 2 | 14
| IDI Guide for Program Managers | 7 | 1 | 1 | 7
| IDI Guide for Program Staff Members | 35 | 1 | 1 | 35
| IDI Guide for Program Partners | 21 | 1 | 1 | 21
Organizations that do not Receive CDC Funding | IDI Guide for Program Directors/Principal Investigators | 5 | 1 | 2 | 10
| IDI Guide for Program Managers | 5 | 1 | 1 | 5
| IDI Guide for Program Staff Members | 25 | 1 | 1 | 25
| IDI Guide for Program Partners | 15 | 1 | 1 | 15
Total |  |  |  |  | 132

Leroy A. Richardson,
Chief, Information Collection Review Office, Office of Scientific Integrity, Office of the Associate Director for Science, Office of the Director, Centers for Disease Control and Prevention.

[FR Doc. 2013-16770 Filed 7-12-13; 8:45 am]

BILLING CODE 4163-18-P